NATIONAL AERONAUTICS AND SPACE ADMINISTRATION

[Notice (01-085)]

Notice of Prospective Patent License

AGENCY: National Aeronautics and Space Administration.

ACTION: Notice of prospective patent license

SUMMARY: NASA hereby gives notice that Simplylook.com, Inc., of San Jose, CA has applied for an exclusive license to practice the invention disclosed in U.S. Patent No. 5,426,512, entitled “Optimized Image Compression (DCTune),” which is assigned to the United States of America as represented by the Administrator of the National Aeronautics and Space Administration. Written objections to the prospective grant of a license should be sent to Ames Research Center.

DATES: Responses to this notice must be received by September 10, 2001.

FOR FURTHER INFORMATION CONTACT: Robert Padilla, Patent Counsel, NASA Ames Research Center, Mail Stop 202A-3, Moffett Field, CA 94035-1000, telephone (650) 604-5104.

Dated: July 2, 2001.
Edward A. Frankle,
General Counsel

[FR Doc. 01-17292 Filed 7-10-01; 8:45 am]

BILLING CODE 7510-01-P